OFFICE OF PERSONNEL MANAGEMENT

[OMB Control No. 3206-0212; Forms RI 38-117, RI 38-118, and RI 37-22]

Proposed Information Collection; Request for Review of a Revised Information Collection

AGENCY: Office of Personnel Management.

ACTION: Notice.

SUMMARY: In accordance with the Paperwork Reduction Act of 1995 (Public Law 104-13, May 22, 1995), this notice announces that the Office of Personnel Management (OPM) intends to submit to the Office of Management and Budget (OMB) a request for review of a revised information collection. This information collection, “Rollover Election” (OMB Control No. 3206-0212, Form RI 38-117), is used to collect information from each payee affected by a change in the tax code (Pub. L. 107-16) so that OPM can make payment in accordance with the wishes of the payee. “Rollover Information” (OMB Control No. 3206-0212, Form RI 38-118), explains the election. “Special Tax Notice Regarding Rollovers” (OMB Control No. 3206-0212, Form RI 37-22), provides more detailed information.

Comments are particularly invited on: whether this collection of information is necessary for the proper performance of functions of the Office of Personnel Management, and whether it will have practical utility; whether our estimate of the public burden of this collection is accurate, and based on valid assumptions and methodology; and ways in which we can minimize the burden of the collection of information on those who are to respond, through the use of the appropriate technological collection techniques or other forms of information technology.

The estimated number of respondents is 1,500. We estimate it takes approximately 30 minutes to complete the form. The annual burden is 750 hours.

For copies of this proposal, contact Cyrus S. Benson on (202) 606-0623, Fax (202) 606-0910 or via E-mail to Cyrus.Benson@opm.gov. Please include a mailing address with your request.

DATES: Comments on this proposal should be received within 60 calendar days from the date of this publication.

ADDRESS: Send or deliver comments to—James K. Freiert, Deputy Assistant Director, Retirement Services Program, Center for Retirement and Insurance Services, U.S. Office of Personnel Management, 1900 E Street, NW., Room 3305, Washington, DC 20415-3500.

For information regarding administrative coordination contact: Cyrus S. Benson, Team Leader, Publications Team, RIS Support Services/Support Group, U.S. Office of Personnel Management, 1900 E Street, NW.—Room 4H28, Washington, DC 20415, (202) 606-0623.

U.S. Office of Personnel Management.
John Berry,
Director.

[FR Doc. E9-18080 Filed 7-28-09; 8:45 am]

BILLING CODE 6325-38-P